GENERAL SERVICES ADMINISTRATION

41 CFR Parts 300-3, 301-10, 301-31, 301-50, 301-51, 301-70 Through 301-76, Chapter 301, and Parts 302-1 Through 302-9, 302-11, 302-12, 302-14 Through 302-17, 303-70, 304-2, 304-3, and 304-5

[FTR Case 2022-05; Docket No. GSA-FTR-2022-0005, Sequence No. 1]

RIN 3090-AK67

Federal Travel Regulation; Updating the FTR With Diversity, Equity, Inclusion, and Accessibility Language

AGENCY: Office of Government-wide Policy (OGP), General Services Administration (GSA).

ACTION: Final rule.

SUMMARY: GSA is issuing a final rule that makes technical amendments to the Federal Travel Regulation (FTR) regarding gender neutrality. These technical amendments result in more inclusive language by replacing gender-specific pronouns (e.g., he, she, his, her) with non-gendered pronouns. These changes are grammatical and technical in nature and do not result in added costs or associated policy changes.

DATES: This final rule is effective on April 16, 2024.

FOR FURTHER INFORMATION CONTACT: Mr. Ed Davis, Program Analyst, Office of Government-wide Policy, at 202-669-1653 or travelpolicy@gsa.gov for clarification of content. For information pertaining to status or publication schedules, contact the Regulatory Secretariat Division at 202-501-4755 or GSARegSec@gsa.gov. Please cite “FTR Case 2022-05.”

SUPPLEMENTARY INFORMATION:

I. Background

Executive Order (E.O.) 13988, Preventing and Combating Discrimination on the Basis of Gender Identity or Sexual Orientation, dated January 20, 2021, establishes a policy “to prevent and combat discrimination on the basis of gender identity or sexual orientation, and to fully enforce Title VII and other laws that prohibit discrimination on the basis of gender identity or sexual orientation.”

The Federal Government must be a model for diversity, equity, inclusion, and accessibility, where all employees are treated with dignity and respect. While GSA is not aware of any specific instances where language in the FTR has been used to discriminate against an employee seeking reimbursement for travel or relocation expenses, GSA believes it is important to prevent any potential discrimination or the appearance of discrimination. Therefore, GSA has undertaken an extensive review of the FTR and is updating all instances where language used to identify individuals is not as inclusive as it could be.

Consistent with the American Psychological Association (APA) Style Guide, 7th Edition, Publication Manual Section 5.5 guidance on “Gender and Pronoun Usage”, GSA is replacing gender-specific pronouns, such as he, she, his, or her with more inclusive and respectful terminology to all segments of society. Other terms that do not use gender-specific language, such as employee, traveler, sibling, child, and parent have also been used as appropriate.

II. Waiver of Proposed Rulemaking

In developing this final rule, GSA is waiving notice of proposed rulemaking, public comment, and effective date procedures set forth in the Administrative Procedure Act, 5 U.S.C. 553 (APA). The APA provides an exception to those procedures when an agency finds there is good cause for dispensing with such procedures. See 5 U.S.C. 553(b)(3)(B), 553(d)(3). Here, GSA has determined that_good cause exists for dispensing with these procedures_because they are unnecessary. The removal of gender-specific language is a grammatical, technical amendment that does not change policy or require the expenditure of agency funds. It instead makes clear that the FTR should not be interpreted to condone potential gender discrimination or the appearance of gender discrimination, even if GSA is unaware of the FTR's gendered language being used to discriminate against an employee. Therefore, this rule is not subject to notice, an opportunity for public comment, or a delayed effective date, and will be final and effective upon publication.

III. Discussion of the Final Rule

A. Summary of Significant Changes

This final rule is technical in nature and does not significantly change any definition, operation or interpretation of the FTR.

B. Expected Cost Impact to the Public

No FTR benefit has been increased or decreased in any way by these technical changes to the FTR.

IV. Executive Orders 12866, 13563, and 14094

Executive Order (E.O.) 12866 (Regulatory Planning and Review) directs agencies to assess all costs and benefits of available regulatory alternatives and, if regulation is necessary, to select regulatory approaches that maximize net benefits (including potential economic, environmental, public health and safety effects, distributive impacts, and equity). E.O. 13563 (Improving Regulation and Regulatory Review) emphasizes the importance of quantifying both costs and benefits, of reducing costs, of harmonizing rules, and of promoting flexibility. E.O. 14094 (Modernizing Regulatory Review) amends section 3(f) of E.O. 12866 and supplements and reaffirms the principles, structures, and definitions governing contemporary regulatory review established in E.O. 12866 and E.O. 13563. The Office of Management and Budget's Office of Information and Regulatory Affairs (OIRA) has determined that this rule is not a significant regulatory action and, therefore, it was not reviewed under Section 6(b) of E.O. 12866.

V. Congressional Review Act

Title II, subtitle E of the Small Business Regulatory Enforcement Fairness Act of 1996 (codified at 5 U.S.C. 801-808), also known as the Congressional Review Act or CRA, generally provides that before a rule may take effect, unless excepted, the agency promulgating the rule must submit a rule report, which includes a copy of the rule, to each House of the Congress and to the Comptroller General of the United States. This rule is excepted from CRA reporting requirements prescribed under 5 U.S.C. 801 as it relates to agency management or personnel under 5 U.S.C. 804(3)(B).

VI. Regulatory Flexibility Act

This final rule will not have a significant economic impact on a substantial number of small entities within the meaning of the Regulatory Flexibility Act, 5 U.S.C. 601, et seq. This final rule is also exempt from the Administrative Procedure Act pursuant to 5 U.S.C. 553(a)(2) because it applies to agency management or personnel. Therefore, an Initial Regulatory Flexibility Analysis was not performed.

VII. Paperwork Reduction Act

The Paperwork Reduction Act does not apply because the changes to the FTR do not impose recordkeeping or information collection requirements, or the collection of information from offerors, contractors, or members of the public that require the approval of the Office of Management and Budget (OMB) under 44 U.S.C. 3501, et seq.

List of Subjects in 41 CFR Parts 300-3, 301-10, 301-31, 301-50, 301-51, 301-70 Through 301-76, Appendix C to Chapter 301, 302-1 Through 302-9, 302-11, 302-12, 302-14 Through 302-17, 303-70, 304-2, 304-3, and 304-5.

Government employees, Travel and transportation expenses.

Robin Carnahan,
Administrator of General Services.

For the reasons set forth in the preamble, GSA amends 41 CFR parts 300-3, 301-10, 301-31, 301-50, 301-51, 301-70 through 301-76, Appendix C to Chapter 301, 302-1 through 302-9, 302-11, 302-12, 302-14 through 302-17, 303-70, 304-2, 304-3, and 304-5 as set forth below:

PART 300-3—GLOSSARY OF TERMS

1. The authority citation for part 300-3 continues to read as follows:

Authority: 5 U.S.C. 5707; 40 U.S.C. 121(c); 41 U.S.C. 40118; 5 U.S.C. 5738; 5 U.S.C. 5741-5742; 20 U.S.C. 905(a); 31 U.S.C. 1353; E.O 11609, as amended, 3 CFR, 1971-1975 Comp., p. 586, Office of Management and Budget Circular No. A-126, revised May 22, 1992.

2. Amend § 300-3.1 by—

a. Removing from the definition of “Commuted rate” “his/her household” and adding “their household” in its place;

b. Removing from the definition of “Crewmember” “he/she must” and adding “that crewmember must” in its place;

c. Removing from the definition of “Extended storage” “he/she is not” and adding “the employee is not” in its place;

d. Removing from the introductory text of the definition of “Immediate family” “he/she reports” and adding “the employee reports” in its place; and removing from paragraph (5) “Dependent brothers and sisters (including step and legally adoptive brothers and sisters)” and adding “Dependent siblings (including step and legally adoptive siblings)” in its place;

e. Removing from the definition of “Official station”, in two occurrences, “his and her” and adding “their” in their places;

f. Removing from the introductory text of the definition of “Professional Books, Papers and Equipment” the phrase “his/her official duties” and adding “the employee's official duties” in its place; and

g. Revising the last sentence of the definition of “Qualified non-crewmember”.

The revision reads as follows:

§ 300-3.1 What do the following terms mean?

* * * * *

Qualified non-crewmember * * * If a qualified non-crewmember is onboard for the purpose of travel (i.e., being transported from point to point) in addition to performing their duties related to the non-travel related Governmental function for which the aircraft is being operated (e.g., when a scientist conducts an experiment at the same time they are also on the aircraft for the purpose of traveling from point to point), they must be authorized to travel in accordance with rules in 41 CFR parts 301-10 and 301-70.

* * * * *

PART 301-10—TRANSPORTATION EXPENSES

3. The authority citation for part 301-10 is revised to read as follows:

Authority: 5 U.S.C. 5707; 40 U.S.C. 121(c); 49 U.S.C. 40118; Office of Management and Budget Circular No. A-126, “Improving the Management and Use of Government Aircraft.” Revised May 22, 1992.

§ 301-10.262 [Amended]

4. Amend § 301-10.262 by—

a. Removing from paragraphs (a) introductory text, (b), and (c) “his/her principal deputy” and adding “their principal deputy” in their places, respectively; and

b. Removing from paragraph (d) “to whom he/she delegates” and adding “to whom they delegate” in its place.

PART 301-31—THREATENED LAW ENFORCEMENT/INVESTIGATIVE EMPLOYEES

5. The authority citation for part 301-31 continues to read as follows:

Authority: 5 U.S.C. 5707.

§ 301-31.1 [Amended]

6. Amend § 301-31.1 by removing “his/her immediate” and adding “the employee's immediate” in its place.

PART 301-50—ARRANGING FOR TRAVEL SERVICES

7. The authority citation for part 301-50 continues to read as follows:

Authority: 5 U.S.C. 5707; 40 U.S.C. 121(c).

§ 301-50.4 [Amended]

8. Amend § 301-50.4 by removing from the introductory text “his/her designee” and adding “their designee” in its place.

PART 301-51—PAYING TRAVEL EXPENSES

9. The authority citation for part 301-51 continues to read as follows:

Authority: 5 U.S.C. 5707. Subpart A is issued under the authority of Sec. 2, Pub. L. 105-264, 112 Stat. 2350 (5 U.S.C. 5701 note); 40 U.S.C. 121(c).

§ 301-51.4 [Amended]

10. Amend § 301-51.4 by removing “his/her designee(s)” and adding “their designee(s)” in its place.

PART 301-70—INTERNAL POLICY AND PROCEDURE REQUIREMENTS

11. The authority citation for part 301-70 continues to read as follows:

Authority: 5 U.S.C. 5707; 40 U.S.C. 121(c); Sec. 2, Pub. L. 105-264, 112 Stat. 2350 (5 U.S.C. 5701, note); OMB Circular No. A-126, revised May 22, 1992; OMB Circular No. A-123, Appendix B, revised August 27, 2019.

§ 301-70.102 [Amended]

12. Amend § 301-70.102 by removing from paragraph (g) “he/she travels” and adding “the employee travels” in its place.

§ 301-70.200 [Amended]

13. Amend § 301-70.200 by removing from paragraphs (c) and (d) “his/her official station” and adding “their official station” in their places.

§ 301-70.700 [Amended]

14. Amend § 301-70.700 by removing from paragraph (c) “his/her designee” and adding “their designee” in its place.

§ 301-70.701 [Amended]

15. Amend § 301-70.701 by removing from paragraph (b) “his/her designee(s)” and adding “their designee(s)” in its place.

16. Amend § 301-70.803 by—

a. Removing from paragraph (a) introductory text “his/her principal” and adding “their principal” in their places;

b. Removing from paragraph (a)(1) “his or her” and adding “their” in its place;

c. Removing from paragraph (b) “his/her principal” and adding “their principal” in its place;

d. Removing from paragraph (c) “his/her deputy” and adding “their deputy” in its place; and

e. Revising paragraph (d)(1).

The revision reads as follows:

§ 301-70.803 How must we authorize travel on a Government aircraft?

* * * * *

(d) * * *

(1) Your agency's designated travel approving official (or anyone to whom they delegate this authority and who is at least one organizational level above the traveler) must authorize, in advance and in writing, all other travel on Government aircraft (i.e., by passengers, crewmembers, or qualified non-crewmembers) that is not covered in paragraphs (a) through (c) of this section.

* * * * *

17. Amend § 301-70.804 by—

a. Revising paragraph (b)(1);

b. Removing from paragraph (b)(2) “his/her dependents” and adding “the traveler's dependents” in its place; and

c. Removing from paragraph (c) “he/she not engaged” and adding “they not engaged” in its place.

The revision reads as follows:

§ 301-70.804 What amount must the Government be reimbursed for travel on a Government aircraft?

* * * * *

(b) * * *

(1) You must require a traveler on required-use travel to reimburse the Government for the excess of the full coach fare for all flights taken on a trip over the full coach fare for the flights that the traveler would have taken had they not engaged in personal activities during the trip; and

* * * * *

§ 301-70.901 [Amended]

18. Amend § 301-70.901 by removing “his/her designee” and adding “their designee” in its place.

§ 301-70.904 [Amended]

19. Amend § 301-70.904 by removing “he/she must present” from the text and adding “they must present” in its place.

§ 301-70.907 [Amended]

20. Amend § 301-70.907 by removing from paragraph (a) “he/she” and adding “the traveler” in its place.

PART 301-71—AGENCY TRAVEL ACCOUNTABILITY REQUIREMENTS

21. The authority citation for part 301-71 continues to read as follows:

Authority: 5 U.S.C. 5707; 40 U.S.C. 121(c); Sec. 2, Pub. L. 105-264, 112 Stat. 2350 (5 U.S.C. 5701 note).

§ 301-71.200 [Amended]

22. Amend § 301-71.200 by removing “his/her designee” and adding “their designee” in its place.

§ 301-71.201 [Amended]

23. Amend § 301-71.201 by removing from the introductory text “He/she must” and adding “The reviewing official must” in its place.

§ 301-71.205 [Amended]

24. Amend § 301-71.205 by removing from paragraph (a) “his/her expenses” and adding “expenses” in its place.

§ 301-71.206 [Amended]

25. Amend § 301-71.206 by removing from paragraph (c) “he/she desires” and adding “the employee desires” in its place.

§ 301-71.208 [Amended]

26. Amend § 301-71.208 by removing “his/her travel” and adding “the travel” in its place.

27. Revise § 301-71.214 to read as follows:

§ 301-71.214 Does mandatory use of the Government contractor-issued travel charge card change the employee's obligation to pay their travel card bill by the due date?

No, mandatory use of the Government contractor-issued travel charge card does not relieve the employee of their obligation to honor their cardholder payment agreement.

PART 301-72—AGENCY RESPONSIBILITIES RELATED TO COMMON CARRIER TRANSPORTATION

28. The authority citation for part 301-72 continues to read as follows:

Authority: 5 U.S.C. 5707; 31 U.S.C. 3726; 40 U.S.C. 121(c).

§ 301-72.101 [Amended]

29. Amend § 301-72.101 by removing from paragraph (a) “he/she is accountable” and adding “the employee is accountable” in its place.

PART 301-73—TRAVEL PROGRAMS

30. The authority citation for part 301-73 continues to read as follows:

Authority: 5 U.S.C. 5707; 40 U.S.C. 121(c).

§ 301-73.102 [Amended]

31. Amend § 301-73.102 by removing from paragraph (a) introductory text “his/her designee” and adding “their designee” in its place.

§ 301-73.103 [Amended]

32. Amend § 301-73.103 by removing “his/her designee” and adding “their designee” in its place.

§ 301-73.104 [Amended]

33. Amend § 301-73.104 by removing from paragraph (a) introductory text “his/her designee” and adding “the Administrator's designee” in its place.

§ 301-73.105 [Amended]

34. Amend § 301-73.105 by removing “he/she is responsible” and adding “the employee is responsible” in its place.

PART 301-74—CONFERENCE PLANNING

35. The authority citation for part 301-74 continues to read as follows:

Authority: 5 U.S.C. 5707.

36. Amend § 301-74.24 by revising the section heading to read as follows:

§ 301-74.24 What is the traveler required to do if they are unable to attend an event for which they were reimbursed for an advanced discounted payment of a conference or training registration fee?

* * * * *

PART 301-75—PRE-EMPLOYMENT TRAVEL

37. The authority citation for part 301-75 continues to read as follows:

Authority: 5 U.S.C. 5707.

38. Amend § 301-75.4 by revising paragraphs (b) and (f) to read as follows:

§ 301-75.4 What other responsibilities do we have for pre-employment interview travel?

* * * * *

(b) Inform the interviewee that the interviewee is responsible for excess cost and any additional expenses that they incur for personal preference or convenience;

* * * * *

(f) Inform the interviewee that the interviewee may subject themselves to criminal penalties if they knowingly present a false, fictitious, or fraudulent travel claim (See 18 U.S.C. 287 and 1001).

39. Amend § 301-75.200 by revising the entry for “Other expenses” to read as follows:

§ 301-75.200 How will we pay for pre-employment interviewee travel expenses?

For | You will
* * * * * * *
Other expenses | Require payment by the interviewee and reimburse the interviewee for allowable travel expenses upon submission and approval of the interviewee's travel claim.

40. Amend § 301-75.202 by revising the section heading and entry for “The new ticket is more expensive than the ticket you provided” in the table to read as follows:

§ 301-75.202 What must we do if the interviewee exchanges the ticket they have been issued?

If | You will inform the traveler
The new ticket is more expensive than the ticket you provided | That the traveler must pay the difference using personal funds and the traveler will not receive reimbursement for the extra amount.
* * * * * * *

§ 301-75.205 [Amended]

41. Amend § 301-75.205 by removing “he or she must” and adding “they must” in its place.

PART 301-76—COLLECTION OF UNDISPUTED DELINQUENT AMOUNTS OWED TO THE CONTRACTOR ISSUING THE INDIVIDUALLY BILLED TRAVEL CHARGE CARD

42. The authority citation for part 301-76 continues to read as follows:

Authority: 5 U.S.C. 5707; 40 U.S.C. 121(c); Sec. 2, Pub. L. 105-264, 112 Stat. 2350 (5 U.S.C. 5701 note).

43. Amend § 301-76.100 by revising paragraph (a) to read as follows:

§ 301-76.100 Are there any due process requirements with which we must comply before collecting undisputed delinquent amounts on behalf of the charge card contractor?

* * * * *

(a) Provide the employee with written notice of the type and amount of the claim, the intention to collect the claim by deduction from the employee's disposable pay, and an explanation of the employee's rights as a debtor;

* * * * *

Appendix C to Chapter 301

44. The authority citation for appendix C to chapter 301 continues to read as follows:

Authority: 5 U.S.C. 5707.

45. Amend appendix C to chapter 301 in the table by revising the entry for “Official Station” to read as follows:

Appendix C to Chapter 301—Standard Data Elements for Federal Travel [Traveler Identification]

Group name | Data elements | Description
* * * * * * *
Official Station | City, State, Zip | The location where the employee regularly performs their duties or an invitational traveler's home or regular place of business. If the employee's work involves recurring travel or varies on a recurring basis, the location where the work activities of the employee's position of record are based is considered the employee's official station.
* * * * * * *

PART 302-1—GENERAL RULES

46. The authority citation for part 302-1 continues to read as follows:

Authority: 5 U.S.C. 5738; 20 U.S.C. 905(a).

§ 302-1.1 [Amended]

47. Amend § 302-1.1 by removing from paragraph (e) “his/her place” and adding “their place” in its place.

PART 302-2—EMPLOYEE ELIGIBILITY REQUIREMENTS

48. The authority citation for part 302-2 continues to read as follows:

Authority: 5 U.S.C. 5738; 20 U.S.C. 905(a).

§ 302-2.102 [Amended]

49. Amend § 302-2.102 by removing “his/her designee” and adding “their designee” in its place.

50. Amend § 302-2.103 by revising paragraphs (a) and (b) to read as follows:

§ 302-2.103 How must we administer the authorization for relocation of an employee?

* * * * *

(a) Issue an employee a TA for relocation before the employee transfers to a new official station;

(b) Inform the employee of the transfer within a timeframe that will provide the employee sufficient time for preparation;

* * * * *

§ 302-2.106 [Amended]

51. Amend § 302-2.106 by removing “his/her designee” and adding “their designee” in its place.

§ 302-2.110 [Amended]

52. Amend § 302-2.110 by removing from the introductory text “his/her effective” and adding “the employee's effective” in its place.

PART 302-3—RELOCATION ALLOWANCES BY SPECIFIC TYPE

53. The authority citation for part 302-3 continues to read as follows:

Authority: 5 U.S.C. 5738; 20 U.S.C. 905(a).

§ 302-3.1 [Amended]

54. Amend § 302-3.1 by removing from paragraph (c) “his/her college” and adding “that student trainee's college” in its place.

55. Amend § 302-3.203 by revising the section heading to read as follows:

§ 302-3.203 If I am transferring in the interest of the Government and my employed immediate family member(s) transfer is not in the interest of the Government, will those immediate family member(s) receive relocation allowances?

* * * * *

§ 302-3.500 [Amended]

56. Amend § 302-3.500 by—

a. Removing from paragraph (a) “violates his/her” and adding “violates their” in its place; and

b. Removing from paragraph (d) “arrange his/her” and adding “arrange their” in its place.

§ 302-3.501 [Amended]

57. Amend § 302-3.501 by removing from paragraph (b) “his/her benefits” and adding “the new appointee's benefits” in its place.

58. Amend § 302-3.502 by—

a. Removing from paragraph (b) “his/her travel expense” and “his/her TCS expenses” and adding “the employee's travel expense” and “their TCS expenses” in their places, respectively; and

b. Revising paragraph (c).

The revision reads as follows:

§ 302-3.502 What factors should we consider in determining whether to authorize a TCS for a long-term assignment?

* * * * *

(c) Employee concerns. The long-term assignment of an employee away from the employee's official station and immediate family may negatively affect the employee's morale and job performance. Such negative effects may be alleviated by authorizing a TCS so the employee can transport their immediate family and/or household goods at Government expense to the location where the employee will perform the long-term assignment. You should consider the effects of a long-term temporary duty travel assignment on an employee when deciding whether to authorize a TCS.

§ 302-3.504 [Amended]

59. Amend § 302-3.504 by removing from paragraph (e) “his/her relocation” and adding “the employee's relocation” in its place.

60. Amend § 302-3.506 by revising the section heading to read as follows:

§ 302-3.506 May we pay relocation expenses if the employee violates their service agreement?

* * * * *

§ 302-3.509 [Amended]

61. Amend § 302-3.509 by—

a. Removing from paragraph (a) “his/her service” and adding “the service” in its place; and

b. Removing from paragraph (c) “his/her relocation” and adding “the employee's relocation” in its place.

§ 302-3.510 [Amended]

61. Amend § 302-3.510 by removing “his/her service” and adding “the employee's service” in its place.

62. Amend § 302-3.511 by revising paragraphs (a) and (e) to read as follows:

§ 302-3.511 What must we consider when determining return travel for immediate family member(s) for compassionate reasons prior to completion of the service agreement?

* * * * *

(a) The immediate family member(s)' physical or mental health;

* * * * *

(e) A dependent that traveled to post of duty on the employee's authorized TA and has now reached their 21st birthdate.

PART 302-4—ALLOWANCES FOR SUBSISTENCE AND TRANSPORTATION

63. The authority citation for part 302-4 continues to read as follows:

Authority: 5 U.S.C. 5738; 20 U.S.C. 905(a); E.O. 11609, 36 FR 13747, 3 CFR, 1971-1975 Comp., p. 586.

64. Revise § 302-4.203 to read as follows:

§ 302-4.203 How much per diem will my spouse or domestic partner receive if they accompany me while I am performing PCS travel?

The maximum amount your spouse or domestic partner may receive if they accompany you while you are performing PCS travel is three-fourths of your daily per diem rate.

65. Revise § 302-4.204 to read as follows:

§ 302-4.204 If my spouse or domestic partner does not accompany me but travels unaccompanied at a different time, what per diem rate will they receive?

If your spouse or domestic partner does not accompany you but travels unaccompanied at a different time, they will receive the same per diem rate to which you are entitled.

PART 302-5—ALLOWANCE FOR HOUSEHUNTING TRIP EXPENSES

66. The authority citation for part 302-5 continues to read as follows:

Authority: 5 U.S.C. 5738; 20 U.S.C. 905(a); E.O. 11609, as amended, 3 CFR, 1971-1975 Comp., p. 586.

§ 302-5.102 [Amended]

67. Amend § 302-5.102 by removing “his/her circumstances” and “he or she will” and adding “the employee's circumstances” and “the employee will” in their places, respectively.

PART 302-6—ALLOWANCE FOR TEMPORARY QUARTERS SUBSISTENCE EXPENSES

68. The authority citation for part 302-6 continues to read as follows:

Authority: 5 U.S.C. 5738; 20 U.S.C. 905(a); E.O. 11609, as amended, 3 CFR, 1971-1975 Comp., p. 586.

§ 302-6.2 [Amended]

69. Amend § 302-6.2 by removing “his/her immediate family” and adding “the employee's immediate family” in its place.

70. Amend § 302-6.300 by revising the first sentence to read as follows:

§ 302-6.300 How should we administer the TQSE allowance?

Temporary quarters should be used only if, and only for as long as, necessary until the employee and/or the employee's immediate family can move into permanent residence quarters. * * *

71. Amend § 302-6.303 by revising paragraph (a) to read as follows:

§ 302-6.303 What factors should we consider in determining whether the TQSE allowance is actually necessary?

* * * * *

(a) The length of time the employee should reasonably be expected to occupy the employee's residence at the old official station prior to reporting for duty at the new official station. An employee and the employee's immediate family should continue to occupy the residence at the old official station for as long as practicable to avoid the necessity for temporary quarters.

* * * * *

PART 302-7—TRANSPORTATION AND TEMPORARY STORAGE OF HOUSEHOLD GOODS, PROFESSIONAL BOOKS, PAPERS, AND EQUIPMENT, (PBP&E) AND BAGGAGE ALLOWANCE

72. The authority citation for part 302-7 continues to read as follows:

Authority: 5 U.S.C. 5738; 20 U.S.C. 905(a); E.O. 11609, as amended, 3 CFR, 1971-1975 Comp., p. 586.

§ 302-7.1 [Amended]

73. Amend § 302-7.1 by removing from paragraph (b) “his/her first” and adding “their first” in its place.

§ 302-7.201 [Amended]

74. Amend § 302-7.201 by removing “he/she is responsible” and adding “the employee is responsible” in its place.

PART 302-8—ALLOWANCES FOR EXTENDED STORAGE OF HOUSEHOLD GOODS (HHG)

75. The authority citation for part 302-8 is revised to read as follows:

Authority: 5 U.S.C. 5738; 20 U.S.C. 905(a); E.O. 11609, 36 FR 13747, 3 CFR, 1971-1975 Comp., p. 586.

76. Amend § 302-8.2 by revising paragraph (b) to read as follows:

§ 302-8.2 What is the purpose of extended storage?

* * * * *

(b) Assigned to isolated locations in CONUS to which you cannot take or at which you are unable to use your HHG and personal effects because of the absence of residence quarters at that location;

* * * * *

77. Amend § 302-8.402 by revising the section heading, the introductory text, and paragraph (a) to read as follows:

§ 302-8.402 May we allow the employee to determine options in the preference of the employee's storage?

Yes, the employee may determine options in the preference of the employee's storage. You may authorize the employee to:

(a) Transport a portion of the employee's HHG to the official station and store the remainder at Government expense;

* * * * *

PART 302-9—ALLOWANCES FOR TRANSPORTATION AND EMERGENCY OR TEMPORARY STORAGE OF A PRIVATELY OWNED VEHICLE

78. The authority citation for part 302-9 continues to read as follows:

Authority: 5 U.S.C. 5737a; 5 U.S.C. 5738; 20 U.S.C. 905(a); E.O. 11609, as amended, 3 CFR, 1971-1975 Comp., p. 586.

§ 302-9.1 [Amended]

79. Amend § 302-9.1 by removing “his/her immediate” and adding “the employee's immediate” in its place.

§ 302-9.602 [Amended]

80. Amend § 302-9.602 by removing “his/her POV” and adding “their POV” in its place.

PART 302-11—ALLOWANCES FOR EXPENSES INCURRED IN CONNECTION WITH RESIDENCE TRANSACTIONS

81. The authority citation for part 302-11 continues to read as follows:

Authority: 5 U.S.C. 5738 and 20 U.S.C. 905(c).

§ 302-11.106 [Amended]

82. Amend § 302-11.106 by removing “his/her name” and adding “that individual's name” in its place.

83. Revise § 302-11.309 to read as follows:

§ 302-11.309 What residence transaction expenses are reimbursable if an employee violates the terms of the service agreement?

If the employee violates their service agreement, no residence transaction expenses will be paid, and any amounts paid prior to such violation shall be a debt due the United States until they are paid by the employee.

§ 302-11.404 [Amended]

84. Amend § 302-11.404 by removing from paragraph (e) introductory text “his/her payment” and adding “the payment” in its place and removing from paragraph (f) “his/her old” and adding “the employee's old” in its place.

85. Amend § 302-11.407 by removing from paragraph (a) “his/her financial” and adding “the employee's financial” in its place and revising paragraph (b).

The revision reads as follows:

§ 302-11.407 What documentation must we require the employee to submit before paying residence transaction expenses?

* * * * *

(b) A copy of the employee's financial documents which prove that the employee and/or a member(s) of the immediate family received all proceeds from the sale of the property;

* * * * *

§ 302-11.421 [Amended]

86. Amend § 302-11.421 by—

a. Removing from paragraph (a) “him/her from completing his/her” and adding “the employee from completing their” in its place; and

b. Removing from paragraph (b) “his/her transfer” and adding “the employee's transfer” in its place.

87. Revise § 302-11.441 to read as follows:

§ 302-11.441 How must we determine if an employee holds equitable title interest in a property?

To determine if an employee holds equitable title interest in a property, you must follow the guidelines in § 302-11.405.

PART 302-12—USE OF A RELOCATION SERVICES COMPANY

88. The authority citation for part 302-12 continues to read as follows:

Authority: 5 U.S.C. 5738 and 20 U.S.C. 905(c).

§ 302-12.109 [Amended]

89. Amend § 302-12.109 by removing “his/her home” and adding “their home” in its place.

90. Revise § 302-12.119 to read as follows:

§ 302-12.119 Under a home sale program, may we pay an employee for losses the employee incurs on the sale of a residence?

No, under a home sale program, you may not pay an employee for losses the employee incurs on the sale of a residence, but this does not preclude you reimbursing a relocation services company for losses incurred while the contractor holds the property.

91. Revise § 302-12.120 to read as follows:

§ 302-12.120 Under a home sale program, may we direct the relocation services company to pay an employee more than the fair market value of the employee's residence?

No, under a home sale program, you may not direct the relocation services company to pay an employee more than the fair market value (as determined by the residence appraisal process) of the employee's home.

PART 302-14—HOME MARKETING INCENTIVE PAYMENTS

92. The authority citation for part 302-14 continues to read as follows:

Authority: 5 U.S.C. 5756.

§ 302-14.103 [Amended]

93. Amend § 302-14.103 by removing from paragraph (b) “his/her residence” and adding “the employee's residence” in its place.

PART 302-15—ALLOWANCE FOR PROPERTY MANAGEMENT SERVICES

94. The authority citation for part 302-15 continues to read as follows:

Authority: 5 U.S.C. 5738; 20 U.S.C. 905(a); E.O. 11609, as amended, 3 CFR, 1971-1975 Comp., p. 586.

§ 302-15.1 [Amended]

95. Amend § 302-15.1 by removing “his/her residence” and adding “the employee's residence” in its place.

§ 302-15.70 [Amended]

96. Amend § 302-15.70 by—

a. Removing from paragraph (d) “his/her residence” and adding “the employee's residence” in its place; and

b. Removing from paragraph (e) “his/her mind” and “his/her residence” and adding “their mind” and “their residence” in their places, respectively.

PART 302-16—ALLOWANCE FOR MISCELLANEOUS EXPENSES

97. The authority citation for part 302-16 continues to read as follows:

Authority: 5 U.S.C. 5738; 20 U.S.C. 905(a); E.O. 11609, as amended, 3 CFR, 1971-1975 Comp., p. 586.

§ 302-16.202 [Amended]

98. Amend § 302-16.202 by removing from paragraph (f) “his/her immediate” and adding “the employee's immediate” in its place.

§ 302-16.203 [Amended]

99. Amend § 302-16.203 by removing from paragraph (g) “he/she or a member of his/her” and adding “the employee or a member of the employee's” in its place.

PART 302-17—TAXES ON RELOCATION EXPENSES

100. The authority citation for part 302-17 continues to read as follows:

Authority: 5 U.S.C. 5724b; 5 U.S.C. 5738; E.O. 11609, as amended, 3 CFR, 1971-1975 Comp., p. 586.

§ 302-17.44 [Amended]

101. Amend § 302-17.44 by removing from the introductory text “credit on his/her” and adding “credit on their” in its place.

§ 302-17.102 [Amended]

102. Amend § 302-17.102 by removing from paragraph (b) “his/her behalf” and adding “the employee's behalf” in its place.

PART 303-70—AGENCY REQUIREMENTS FOR PAYMENT OF EXPENSES CONNECTED WITH THE DEATH OF CERTAIN EMPLOYEES AND FAMILY MEMBERS

103. The authority citation for part 303-70 continues to read as follows:

Authority: 5 U.S.C. 5721-5738; 5741-5742; E.O. 11609, 3 CFR, 1971-1975 Comp., p 586; Presidential Memorandum dated September 12, 2011, “Delegation Under Section 2(a) of the Special Agent Samuel Hicks Families of Fallen Heroes Act.”

§ 303-70.1 [Amended]

104. Amend § 303-70.1 by removing from paragraph (c) “his/her actual” and adding “the employee's actual” in its place.

§ 303-70.301 [Amended]

105. Amend § 303-70.301 by removing “his/her designated” and adding “their designated” in its place.

§ 303-70.400 [Amended]

106. Amend § 303-70.400 by removing “his/her official” and adding “their official” in its place.

107. Amend § 303-70.500 by revising the section heading to read as follows:

§ 303-70.500 When the employee, on a service agreement or a mandatory mobility agreement, dies at or while in transit to or from the employee's official station OCONUS, must we return the employee's immediate family, baggage, POV, and household goods to the former actual residence, new official station in CONUS, or alternate destination?

* * * * *

108. Amend § 303-70.501 by revising the section heading to read as follows:

§ 303-70.501 Must we continue payment of relocation expenses for an employee's immediate family if the employee dies while in transit from an OCONUS official station to the employee's new official station within CONUS?

* * * * *

PART 304-2—DEFINITIONS

109. The authority citation for part 304-2 continues to read as follows:

Authority: 5 U.S.C. 5707; 31 U.S.C. 1353.

§ 304-2.1 [Amended]

110. Amend § 304-2.1 by removing from paragraph (1) of the definition “Meeting(s) or similar functions (meeting)” “his/her official” and adding “the employee's official” in its place.

PART 304-3—EMPLOYEE RESPONSIBILITY

111. The authority citation for part 304-3 continues to read as follows:

Authority: 5 U.S.C. 5707; 31 U.S.C. 1353.

§ 304-3.2 [Amended]

112. Amend § 304-3.2 by removing “his/her spouse” and adding “the employee's spouse” in its place.

PART 304-5—AGENCY RESPONSIBILITIES

113. The authority citation for part 304-5 continues to read as follows:

Authority: 5 U.S.C. 5707; 31 U.S.C. 1353.

§ 304-5.3 [Amended]

114. Amend § 304-5.3 by removing from paragraph (a) introductory text “he/she determines” and adding “the approving official determines” in its place.

[FR Doc. 2024-02852 Filed 2-15-24; 8:45 am]

BILLING CODE 6820-14-P